DEPARTMENT OF LABOR

Employment and Training Administration

[TA-W-58,624]

Fairchild Semiconductor International, Including On-Site Leased Workers From Manpower, Inc., Mountain Top, PA; Amended Revised Determination on Remand

In accordance with Section 223 of the Trade Act of 1974 (19 U.S.C. 2273), and Section 246 of the Trade Act of 1974 (26 U.S.C. 2813), as amended, the Department of Labor (Department) issued a Notice of Revised Determination on Remand on July 22, 2008. The Department's Notice of determination will soon be published in the Federal Register.

At the request of the State agency, the Department reviewed the Revised Determination on Remand for workers of the subject firm. The Department determined that, while the July 22, 2008 certification set the impact date at January 11, 2005, one year prior to the date on the petition, the previous certification covering workers of the Mountain Top, Pennsylvania location of the subject firm, TA-W-53,335, did not expire until almost 11 months later, on December 2, 2005. To avoid an overlap in worker group coverage for the Mountain Top, Pennsylvania location, the Revised Determination on Remand is being amended to change the impact date from January 11, 2005 to December 3, 2005.

As a result of this amendment, Fairchild Semiconductor International, Mountain Top, Pennsylvania workers separated between January 11, 2005 and December 2, 2005, will continue to be covered under the certification issued in TA-W-53,335, and will not be covered under the certification issued in TA-W-58,624.

New information also provided by the State agency shows that leased workers of Manpower, Inc. were employed on-site at the Mountain Top, Pennsylvania location of Fairchild Semiconductor International. The Department has determined that these workers were engaged in various support activities and were sufficiently under the control of the subject firm to be considered leased workers during the relevant period.

Accordingly, the Department is amending the Revised Determination on Remand to reflect the amended certification period and to include all on-site workers under the control of Fairchild Semiconductor International who were adversely affected.

The amended notice applicable to TA-W-58,624 is hereby issued as follows:

“All workers of Fairchild Semiconductor International, Mountain Top, Pennsylvania, who became totally or partially separated from employment on or after December 3, 2005, through July 22, 2010, are eligible to apply for adjustment assistance under Section 223 of the Trade Act of 1974, and are also eligible to apply for alternative trade adjustment assistance under Section 246 of the Trade Act of 1974”; and

“All leased workers of Manpower, Inc. working on-site at Fairchild Semiconductor International, Mountain Top, Pennsylvania, who became totally or partially separated from employment on or after January 11, 2005, through July 22, 2010, are eligible to apply for adjustment assistance under Section 223 of the Trade Act of 1974, and are also eligible to apply for alternative trade adjustment assistance under Section 246 of the Trade Act of 1974.”

Signed at Washington, DC, this 6th day of August 2008.
Linda G. Poole,
Certifying Officer, Division of Trade Adjustment Assistance.

[FR Doc. E8-19604 Filed 8-22-08; 8:45 am]

BILLING CODE 4510-FN-P